DEPARTMENT OF TRANSPORTATION

Federal Aviation Administration

[Summary Notice No. PE-2005-17]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Susan Boylon (425-227-1152), Transport Airplane Directorate (ANM-113), Federal Aviation Administration, 1601 Lind Ave SW., Renton, WA 98055-4056; or John Linsenmeyer (202-267-5174), Office of Rulemaking (ARM-1), Federal Aviation Administration, 800 Independence Avenue, SW., Washington, DC 20591.

This notice is published pursuant to 14 CFR 11.85 and 11.91.

Issued in Washington, DC, on March 25, 2005.
Brenda D. Courtney,
Acting Director, Office of Rulemaking.

Disposition of Petitions

Docket No.: FAA-2003-14908.

Petitioner: Airborne Express (ABX Air, Inc.).

Sections of 14 CFR Affected: 14 CFR part 21, SFAR No. 88.

Description of Relief Sought/Disposition: To permit McDonnell Douglas, as the supplemental type certificate (STC) holder of STC No. SA1411GL, relief from the requirements of SFAR No. 88 on McDonnell Douglas DC-9-31/32/32(VC-9)/32F/2F(C-9A)/32F(C-9B)/33F/34F /41/81/82/83/87 series airplanes. Grant of Exemption, 03/14/2005, Exemption No. 8509.

Docket No.: FAA-2004-15380.

Petitioner: The Boeing Company.

Sections of 14 CFR Affected: 14 CFR part 21, SFAR No. 88.

Description of Relief Sought/Disposition: To allow The Boeing Company, as the supplemental type certificate (STC) holder of STC No. ST00618WI-D, relief from the requirements of SFAR No. 88 on four Boeing Model 767-200 airplanes. Grant of Exemption, 03/14/2005, Exemption No. 8510.

Docket No.: FAA-2004-18020.

Petitioner: Omega Air.

Sections of 14 CFR Affected: 14 CFR part 21, SFAR No. 88.

Description of Relief Sought/Disposition: To allow Omega Air, as the holder of STC No. ST00888LA for the Boeing Model 707-300B airplane, to substantially meet the intent of SFAR No. 88 without conducting a complete safety review of the airplane fuel tank system, as required by SFAR No. 88. Grant of Exemption, 03/14/2005, Exemption No. 8511.

[FR Doc. 05-6648 Filed 4-1-05; 8:45 am]

BILLING CODE 4910-13-P